ENVIRONMENTAL PROTECTION AGENCY

[EPA-HQ-OAR-2009-0866; FRL-9114-5]

Access by EPA Contractors to Information Claimed as Confidential Business Information (CBI) Submitted Under Title II of the Clean Air Act

AGENCY: Environmental Protection Agency (EPA).

ACTION: Notice.

SUMMARY: EPA's Office of Transportation and Air Quality (OTAQ) has authorized various contractors to access information which has been submitted to EPA under Title II of the Clean Air Act that is claimed to be, or has been determined to be, confidential business information (CBI). EPA is providing notice of past disclosure and of ongoing and contemplated future disclosure.

DATES: Access by EPA contractors to material discussed in this Notice that has been either claimed or determined to be confidential business information (CBI) is ongoing, and is expected to continue in the future. EPA will accept comments on this Notice through March 1, 2010.

FOR FURTHER INFORMATION CONTACT: Anne-Marie C. Pastorkovich, Environmental Protection Agency, 1200 Pennsylvania Avenue, NW. (6406J), Washington, DC 20460; telephone number: 202-343-9623; fax number: 202-343-2801; e-mail address: pastorkovich.anne-marie@epa.gov.

SUPPLEMENTARY INFORMATION:

I. Does This Notice Apply to Me?

This action is directed to the general public. However, this action may be of particular interest to parties who submit or have previously submitted information to EPA regarding the following programs: Fuel and fuel additive registration (40 CFR part 79), various fuels programs including reformulated gasoline, anti-dumping, gasoline sulfur, ultra low sulfur diesel, benzene content, and the renewable fuel standard (40 CFR part 80), certification and defect reporting/recall of light-duty vehicles (including motorcycles) and heavy duty on-highway vehicles and engines (40 CFR part 86 and 40 CFR part 85, subpart T), certification and defect reporting/recall of non-road compression-ignition engines (40 CFR part 89, subparts B and I, 40 CFR part 1039, subpart C, and 40 CFR part 1068, subpart F), certification and defect reporting/recall of spark-ignition engines less than or equal to 19 kilowatts (40 CFR part 90, subparts C and I, 40 CFR part 1054, subpart C, and 40 CFR part 1068, subpart F), certification and defect reporting/recall of marine spark-ignition engines (40 CFR part 91, subparts B and J, 40 CFR part 1045, subpart C, and 40 CFR part 1068, subpart F), certification and defect reporting/recall of locomotives (40 CFR part 92, subparts C and E, 40 CFR part 1033, subpart C, and 40 CFR part 1068, subpart F), certification and defect reporting/recall of marine compression-ignition engines (40 CFR part 94, subparts C and E, 40 CFR part 1042, subpart C, and 40 CFR part 1068, subpart F), certification of large non-road spark-ignition engines (40 CFR part 1048, subpart C, and 40 CFR part 1068, subpart F), certification of recreational engines and vehicles (40 CFR part 1051, subpart C, and 40 CFR part 1068, subpart F), certification of non-road and stationary equipment for evaporative emissions compliance (40 CFR part 1060, subpart C), certification of stationary compression-ignition and spark-ignition engines (40 CFR part 60, subparts IIII and JJJJ, respectively), fees (40 CFR part 1027), and fuel economy information (40 CFR part 600). Reports submitted to EPA under 40 CFR parts 79 and 80 fuels programs are commonly referred to as the “OTAQ Fuels Reporting System.” Reporting submitted to EPA under 40 CFR parts 86 and 600 related to engine and vehicle compliance, such as light-duty certification and fuel economy information, is commonly referred to by the name of the reporting system itself—i.e., as CFEIS (prior to September 2008) and Verify (thereafter). Both the OTAQ Fuels Reporting System and Verify utilize the EPA Central Data Exchange (CDX).

This Notice may be of particular relevance to parties that have submitted data under the above-listed programs or systems. Since other parties may also be interested, the Agency has not attempted to describe all the specific parties that may be affected by this action. If you have further questions regarding the applicability of this action to a particular party, please contact the person listed in FOR FURTHER INFORMATION CONTACT.

II. How Can I Get Copies of This Document and Other Related Information?

A. Electronically

EPA has established a public docket for this Notice under Docket EPA-HQ-OAR-2009-0866.

All documents in the docket are identified in the docket index available at http://www.regulations.gov. Although listed in the index, some information is not publicly available, such as confidential business information (CBI) or other information for which disclosure is restricted by statute. Certain materials, such as copyrighted material, will only be available in hard copy at the EPA Docket Center.

B. EPA Docket Center

Materials listed under Docket EPA-HQ-OAR-2009-0866 will be available for public viewing at the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Air Docket is (202) 566-1742.

III. Description of Programs and Potential Disclosure of Information Claimed as Confidential Business Information (CBI) to Contractors

EPA's Office of Transportation and Air Quality (OTAQ) has responsibility for protecting public health and the environment by regulating air pollution from motor vehicles, engines, and the fuels used to operate them, and by encouraging travel choices that minimize emissions. In order to implement various Clean Air Act programs, and to permit regulated entities flexibility in meeting regulatory requirements (e.g., compliance on average), we collect compliance reports and other information from them. Occasionally, the information submitted is claimed to be confidential business information. Information submitted under such a claim is handled in accordance with EPA's regulations at 40 CFR part 2, subpart B and in accordance with EPA procedures, including comprehensive system security plans (SSPs), that are consistent with those regulations. When EPA has determined that disclosure of information claimed as CBI to contractors is necessary, the corresponding contract must address the appropriate use and handling of the information by the contractor and the contractor must require its personnel who require access to information claimed as CBI to sign written non-disclosure agreements before they are granted access to data.

Controls regarding the handling of information claimed as CBI, including sharing of information with contractors, are also addressed in individual SSPs. The required SSPs adhere to EPA regulations and policies, as well as with the National Institute of Standards and Technology (NIST) Standard 800-53, “Recommended Security Controls for Federal Information Systems and Organizations.” (NIST Standard 800-53 addresses technical, physical, environmental and other controls for information systems, including Local Area Networks (LANs) where information claimed as CBI may be stored.) Security plans address background investigations, required training, and rules of behavior for employees and contractors who require access to information claimed as CBI. Controls contained in OTAQ's SSPs are approved by OTAQ management and by the Information Management Official in the Office of Air and Radiation and such approvals are valid for a period of three (3) years, but we review the individual controls in our SSPs at least annually or whenever any major program or system change occurs, whichever is more frequent. Information which has been submitted to EPA under Title II of the Clean Air Act that is claimed to be, or has been determined to be, CBI has been handled and will continue to be handled at all times in accordance with the appropriate security controls as stated above.

In accordance with 40 CFR 2.301(h), we have determined that the contractors, subcontractors, and grantees (collectively referred to as “contractors”) listed below require access to CBI submitted to us under Title II of the Clean Air Act and in connection with various OTAQ programs related to fuels, vehicles, and engines and are providing notice and an opportunity to comment. OTAQ collects this data in order to monitor compliance with Clean Air Act programs and, in many cases, to permit regulated parties flexibility in meeting regulatory requirements. For example, data that may contain CBI is collected in order to register fuels and fuel additives prior to introduction into commerce and to certify engines. Certain programs are designed to permit regulated parties an opportunity to comply on average, or to engage in transactions using various types of credits. For example, OTAQ collects information about batches of gasoline that refiners produce in order to ensure compliance with reformulated gasoline standards. The nature of the work and its necessity, and the type of access granted, is described below for each contractor.

Normally, EPA is required to give affected businesses notice and an opportunity to comment at least five (5) working days prior to disclosure of information claimed as CBI to a Federal contractor. This Federal Register Notice provides advance notice to all affected businesses that, as described below, certain information may be provided to EPA contractors or enrollees under the Senior Environmental Employment (SEE) program.

In the past, as also described below, EPA has disclosed certain information that had been claimed as CBI to EPA contractors providing support services prior to providing notice to the affected businesses and an opportunity to comment. EPA regrets this unintentional error and has taken steps to avoid this error in the future. We are unaware of any disclosures by contractors of information claimed as CBI. We are publishing this notice in order to comply with the notification requirements of 40 CFR part 2, subpart B.

We are issuing this Notice to inform all submitters of information related to various fuels, vehicles, and engines programs that we have provided, and may in the future provide, access to material claimed as CBI to the contractors identified below on a need-to-know basis.

Under Contract Number EP-W-09-22, PowerSolv, Incorporated, 1801 Robert Fulton Drive #550, Reston, Virginia, 20191 and its subcontractor, Indus Corporation, 1951 Kidwell Drive—8th Floor, Vienna, Virginia, 22182 provide information technology (IT) development and support services related to various fuels reporting programs under 40 CFR parts 79 and 80. The fuels programs for which reporting information may be provided to these entities include: Fuel and fuel additive registration, reformulated gasoline, anti-dumping, gasoline sulfur, ultra low sulfur diesel, benzene content and the renewable fuel standard. Access to fuels data, including information claimed as CBI, has been ongoing since July 1, 2009 and will continue until May 31, 2010. If the contract is extended, this access will continue for the remainder of the contract without further notice. From October 1, 1993 until September 30, 1998, the contractor was Vista Computer Services, under Contract Number 68-W3-0032. From October 1, 1998 until March 31, 2004, the contractor was Vista Computer Services, under Contract Number 68-W-98-230. From April 1, 2004 until June 30, 2009, the contractor was SPS Technologies, Incorporated (formerly known as Vista Computer Services) under Contract Number EP-W-04-024.

Under Contract Number EP-06-095, Compass Solutions, Incorporated, 2760 Eisenhower Avenue, Suite 404, Alexandria, Virginia 22314 provides report processing and support services related to various fuels reporting programs under 40 CFR parts 79 and 80. Access to fuels data, including information claimed as CBI, has been on-going since October 1, 1992 and will continue until September 30, 2010. Compass Solutions was formerly known as McWane and Associates and was referenced in a 1992 letter sent to all then-registered fuel and fuel additive manufacturers to inform them of the disclosure of information claimed as CBI to these contractors. If the contract is extended, the access described in this paragraph will continue for the remainder of the contract and any further extensions without further notice.

Under Contract Number GS35F4381G—Task Order 1530, Software Engineering & Specialized Scientific Support (SES3), 8400 Corporate Drive, New Carrollton, Maryland 20785, and its subcontractor, Computer Sciences Corporation (CSC), of the same address, provide IT support services related to the engine and vehicle compliance information system (i.e., the system formerly called CFEIS and currently called Verify) under 40 CFR parts 86 and 600 Access by this contractor and subcontractor to vehicle and engine data, including information claimed as CBI, has been ongoing since September 11, 2009 and is expected to continue until September 10, 2015. If the contract is extended, this access will continue for the remainder of the contract and any further extensions without further notice. Prior to 2009, the following contractors had access to the data, including information claimed as CBI, described in this paragraph: From July 1, 2004 until September 25, 2009, the contractor was CSC, 8400 Corporate Drive, New Carrollton, Maryland 20785, with the following subcontractors: Concurrent Tech, Compubahn, Inc., TEK Systems, Science Applications International Corporation (SAIC), Innovate, Inc., CCS Technology Group, Ross & Associated, and CTC. The Contract Number was GS00T99ALD0203, Task Order Number T0002AJM038. From January 26, 2004 until July 7, 2006, the contractor was Lockheed Martin, 1010 Glebe Road, Arlington, Virginia 22201 and the following subcontractors: Solutron, Quest, Aprimus, DigitalNet, and Data Tech. The Contract Number was 68-W-04-005, Task Order Number 21. From December 1, 1998 until June 30, 2004, the contractor was Science Applications International Corporation, 200 North Glebe Road, Suite 300, Arlington, Virginia 22203 and the following subcontractor: DynCorp, Indus. The Contract Number was 68-W-99-002.

Under Contract Number EPC-07-050, URS EG&G Division, 20501 Seneca Meadows Parkway, Suite 300, Germantown, Maryland 20876 provides technical services and support related to defect and recall reporting for light-duty, heavy-duty, and non-road and marine engines under 40 CFR parts 85 (subpart T), 89 (subpart I), 90 (subpart I), 91 (subpart J), 92 (subpart E), 94 (subpart E), and 1068 (subpart F). Certain data collected with regard to testing programs (e.g., sales data for engines and vehicles) may be claimed as CBI. Access to data, including information claimed as CBI, has been ongoing since October 1, 2007 and will continue until September 30, 2012. If the contract is extended, this access will continue for the remainder of the contract and any further extensions without further notice.

Under Contract Number EP-C-06-003, Perrin Quarles Associates (PQA), Inc.,¹ 652 Peter Jefferson Parkway, Suite 300, Charlottesville, Virginia 22911 provides technical and analytical support that involves access to information claimed as CBI related to the Information Management System (and internal certification database) and Verify under 40 CFR parts 86 and 600, OTAQ's Greenhouse Gas Project (a computer simulation of light-duty vehicle technologies for greenhouse gas emission reduction in the 2020-2025 timeframe), and the Fuels Economy Trends report under 40 CFR parts 600 and 1027 Access to data, including information claimed as CBI, started January 9, 2006 and will continue until December 31, 2010. If the contract is extended, this access will continue for the remainder of the contract and any further extensions without further notice.

¹ On January 25, 2010, PQA announced that it had been acquired by SRA International (SRA) of Fairfax, Virginia.

Under Contract Number GS35F4797H, CGI, Incorporated, 12601 Fair Lakes Circle, Fairfax, Virginia 22033 provides IT development and support services related to submission of data via EPA's Central Data Exchange (CDX) related to various fuels reporting programs covered by the OTAQ Fuels Reporting System under 40 CFR parts 79 and 80 and Verify under 40 CFR parts 86 and 600. Access to fuels data, including information claimed as CBI, started on September 14, 2009 and will continue until March 31, 2012. Please note that information claimed as CBI is handled by this contractor only in encrypted (i.e., not human-readable) format at its facility (at the address listed above) in Fairfax, Virginia. If the contract is extended, this access will continue for the remainder of the contract and any further extensions without further notice.

Under Contract Number EPC-07-078, Eastern Research Group (ERG), 110 Hartwell Avenue, Lexington, Massachusetts 02421 provides support to the SmartWay Transport program (a voluntary program) by collecting data from equipment manufacturers, vendor sales data, fleet and operational data from transportation providers and logistics firms, and freight operations data from shippers. ERG also assists in the processing of applications for EPA verification of diesel retrofit devices (a voluntary program). Access to data, including information claimed as CBI, started on May 30, 2008 and will continue until August 31, 2011. If the contract is extended, this access will continue for the remainder of the contract and any further extensions without further notice.

In July 2004, OTAQ utilized the emergency services of AAA-Datarecovery, 15 Ingleside Court, Rockville, Maryland 20850 in order to repair and restore a server that stored engine certification information, under EPA Procurement Request/Order PROKGRM-62EH32. This contractor had access to information claimed as CBI, but none of that data was in a human-readable format.

OTAQ utilizes the services of enrollees under the Senior Environmental Employment (SEE) program. In Ann Arbor and Washington, DC, these enrollees are provided through Grant Number CQ-83880-01, Senior Service America, Inc., (SSAI) 8403 Colesville Road, Suite 1200, Silver Spring, Maryland 20910-3314. In Washington, DC, enrollees are also provided through Grant Number CQ-833436, the National Association for Hispanic Elderly (NAHE), 234 E. Colorado Blvd., Suite 300, Pasadena, California 91101. Access to data involving all of OTAQ's programs, including information claimed as CBI, is ongoing and will continue until August 31, 2011. If these grants are extended, this access will continue for the remainder of the grants and any future extensions without further notice.

Parties who wish further information about this Notice or about OTAQ's disclosure of information claimed as CBI to contactors may contact the person listed under FOR FURTHER INFORMATION CONTACT.

List of Subjects

Environmental protection, Confidential business information.

Dated: February 2, 2010.
Christopher Grundler,
Deputy Director, Office of Transportation & Air Quality.

[FR Doc. 2010-3406 Filed 2-19-10; 8:45 am]

BILLING CODE 6560-50-P